ENVIRONMENTAL PROTECTION AGENCY

[FRL-8910-3, Docket EPA-HQ-OW-2005-0007]

Notice Regarding National Pollutant Discharge Elimination System (NPDES) Multi-Sector General Permit (MSGP) for Storm Water Discharges Associated With Industrial Activity

AGENCY: Environmental Protection Agency (EPA).

ACTION: Notice of availability.

SUMMARY: EPA previously announced the issuance in EPA Regions 1, 2, 3, 5, 6, 9, and 10 of the NPDES general permit for stormwater discharges from industrial activity, also referred to as the 2008 Multi-Sector General Permit (MSGP), in the Federal Register of September 29, 2008 (73 FR 56572). The permit was signed on September 29, 2008 and became effective on September 29, 2008. On February 26, 2009 (74 FR 8789), EPA issued the MSGP to certain states, federal facilities, and Indian Country located in EPA Region 10 after receipt of certifications pursuant to section 401 of the Clean Water Act (CWA). Today's notice of availability provides notice of EPA's deletion of a portion of a specific State's CWA Section 401 certification condition from Part 9.1.2.5 of the 2008 MSGP for the State of Massachusetts.

FOR FURTHER INFORMATION CONTACT: For further information on this final NPDES general permit, contact David Gray, EPA Region 1, Office of Ecosystem Protection, Industrial Permits Branch at tel.: 617-918-1577, or Greg Schaner, EPA Headquarters, Office of Water, Office of Wastewater Management at tel.: 202-564-0721, or send questions via e-mail to EPA's stormwater permit mailbox: SWpermit@epa.gov.

SUPPLEMENTARY INFORMATION:

A. General Information

Pursuant to CWA Section 401(a) and EPA's implementing regulations, EPA may not issue a NPDES permit (including the 2008 MSGP) until the appropriate State certifications have been granted or waived. 40 CFR 124.53(a). Through the certification process, States were given the opportunity, before the 2008 MSGP was issued, to add conditions to the permit they believe are necessary to ensure that the permit complies with the CWA and other appropriate requirements of State law, including State water quality standards.

The Massachusetts Department of Environmental Protection (MassDEP) issued its initial Section 401 certification for the 2008 MSGP on February 13, 2006; with subsequent modifications thereto dated June 8, 2006 and September 5, 2006. In a modified certification on March 27, 2009, MassDEP deleted tributlytin (included in certification condition #5) as a required benchmark monitoring parameter applicable to Sector Q (Water Transportation) and Sector R (Ship and Boat Building and Repair Yards). Pursuant to EPA's implementing regulations at 40 CFR 124.55(b), EPA may, at the request of a permittee, modify the 2008 MSGP based on a modified certification received after final agency action on the permit “only to the extent necessary to delete any conditions based on a condition in a certification invalidated by a court of competent jurisdiction or by an appropriate State board or agency.” 40 CFR 124.55(b). In accordance with this provision, EPA has removed the monitoring parameter from the appropriate certification condition for the 2008 MSGP.¹ EPA's letter notifying the requesting permittee that its request to delete a portion of the permit condition was granted, and a copy of the 2008 MSGP reflecting the deletion, can be found in the docket for the 2008 MSGP (Docket ID No. EPA-HQ-OW-2005-0007).²

¹ In addition, the regulations at 40 CFR 124.55(b) also require that EPA receive a request from a permittee for the deleted certification conditions to be removed from the permit. EPA received such requests to remove deleted conditions from Hyannis Marina, Hyannis, MA, on March 17, 2009.

² In addition, the permit may be found at: http://cfpub.epa.gov/npdes/stormwater/msgp.cfm.

B. How Can I Get Copies of These Documents and Other Related Information?

1. Docket. EPA has established an official public docket for this action under Docket ID No. EPA-HQ-OW-2005-0007. The official public docket is the collection of materials, including the administrative record, for the final permit, required by 40 CFR 124.18. It is available for public viewing at the Water Docket in the EPA Docket Center, (EPA/DC) EPA West, Room 3334, 1301 Constitution Ave., NW., Washington, DC 20460. Although all documents in the docket are listed in an index, some information is not publicly available, i.e., CBI or other information whose disclosure is restricted by statute. Publicly available docket materials are available electronically through www.regulations.gov and in hard copy at the EPA Docket Center Public Reading Room, open from 8:30 a.m. to 4:30 p.m., Monday through Friday, excluding legal holidays. The telephone number for the Public Reading Room is (202) 566-1744 and the telephone number for the Water Docket is (202) 566-2426.

2. Electronic Access. You may access this Federal Register document electronically through the EPA Internet under the Federal Register listings at http://www.epa.gov/fedrgstr/.

An electronic version of the public docket is available through the Federal Docket Management System (FDMS) found at http://www.regulations.gov. You may use the FDMS to view public comments, access the index listing of the contents of the official public docket, and to access those documents in the public docket that are available electronically. Once at the Web site, enter the appropriate Docket ID No. in the “Search” box to view the docket.

Certain types of information will not be placed in the EPA dockets. Information claimed as CBI and other information whose disclosure is restricted by statute, which is not included in the official public docket, will not be available for public viewing in EPA's electronic public docket. EPA policy is that copyrighted material will not be placed in EPA's electronic public docket but will be available only in printed, paper form in the official public docket. Although not all docket materials may be available electronically, you may still access any of the publicly available docket materials through the docket facility identified in Section B.1.

Authority: Clean Water Act, 33 U.S.C. 1251 et seq.

Dated: May 13, 2009.
Ira Leighton,
Acting Regional Administrator, EPA Region 1.

[FR Doc. E9-12472 Filed 5-27-09; 8:45 am]

BILLING CODE 6560-50-P